ENVIRONMENTAL PROTECTION AGENCY

[ER-FRL-6675-1]

Environmental Impacts Statements; Notice of Availability

Responsible Agency: Office of Federal Activities, General Information (202) 564-7167 or http://www.epa.gov/compliance/nepa/.

Weekly receipt of Environmental Impact Statements

Filed May 1, 2006 through May 5, 2006

Pursuant to 40 CFR 1506.9.

EIS No. 20060170, Draft EIS, COE, AZ, Rio Salado Oeste Project, Ecosystem Restoration along the Salt River, City of Phoenix, Maricopa County, AZ, Comment Period Ends: June 26, 2006, Contact: Scott K. Estergard 602-640-2001.

EIS No. 20060171, Draft EIS, COE, KY, Levisa Fork Basin Project, Section 202 Flood Damage Reduction, Big Sandy River, Floyd County, KY, Comment Period Ends: June 26, 2006, Contact: Stephen O'Leary 304-399-5841.

EIS No. 20060172, Final EIS, AFS, 00, Grizzly Bear Conservation for the Greater Yellowstone Area National Forests, Implementation, Amend Six Forest Plans: Beaverhead-Deerlodge National Forest, Bridger-Teton National Forest, Caribou-Targhee National Forest, Custer National Forest, Gallatin National Forest and Shoshone National Forest, MT, WY, and ID, Wait Period Ends: June 12, 2006, Contact: Susie Douglas 307-578-1214.

EIS No. 20060173, Draft EIS, UAF, GU, Andersen Air Force Base (AFB), Establish and Operate an Intelligence, Surveillance, Reconnasissance, and Strike (ISR/Strike) Capability, Guam, Comment Period Ends: June 26, 2006, Contact: Scott Whittaker 671-366-2101.

EIS No. 20060174, Final Supplement, AFS, WY, Dean Project Area, Proposes to Implement Multiple Resource Management Actions, New Information to Disclose Direct, Indirect, and Cumulative Environmental Impacts, Black Hills National Forest, Bearlodge Ranger District, Sundance, Crook County, WY, Wait Period Ends: June 12, 2006, Contact: Steve Kozel 307-283-1361.

EIS No. 20060175, Final EIS, FRC, LA, Creole Trail Liquefied National Gas (LNG) Terminal and Pipeline Project, Construction and Operation, Cameron, Calcasieu, Beauregard, Allen, Jefferson, Davis and Acadia Parishes, LA, Wait Period Ends: June 12, 2006, Contact: Todd Sedmak 1-866-208-3372.

EIS No. 20060176, Final EIS, FRC, TX, Port Arthur Liquefied Natural Gas (LNG) Project, Construction and Operation, U.S. Army COE Section 10 and 404 Permits, (FERC/EIS-0182D), Jefferson and Orange Counties TX and Cameron, Calcasieu and Beauregard Parishes, LA, Wait Period Ends: June 12, 2006, Contact: Thomas Russo 1-866-208-FERC.

EIS No. 20060177, Draft EIS, IBR, CA, Contra Costa Water District Alternative Intake Project, To Protect and Improve the Quality of Water Deliver to Untreated and Treated-Water Customers, Contra Costra County, CA, Comment Period Ends: June 26, 2006, Contact: Erika Kegel 916-978-5081.

Dated: May 9, 2006.
Robert W. Hargrove,
Director, NEPA Compliance Division, Office of Federal Activities.

[FR Doc. E6-7266 Filed 5-11-06; 8:45 am]

BILLING CODE 6560-50-P